DEPARTMENT OF AGRICULTURE

Rural Business-Cooperative Service

Rural Utilities Service

7 CFR Part 4288

RIN 0570-AA75

Advanced Biofuel Payment Program; Correction

AGENCY: Rural Business-Cooperative Service; Rural Utilities Service, USDA.

ACTION: Correcting amendment.

SUMMARY: The Agency published a document in the Federal Register of February 11, 2011, establishing the Advanced Biofuel Payment Program authorized under the Food, Conservation, and Energy Act of 2008. This document also established an application deadline for applicants to submit their applications for Fiscal Year (FY) 2010 on April 12, 2011. The Agency is extending the application period to May 6, 2011. Applications received after May 6, 2011, will not be considered for FY 2010.

DATES: Effective Date: May 2, 2011.

FOR FURTHER INFORMATION CONTACT: Requests for additional information should be directed to Diane Berger, (202) 260-1508.

SUPPLEMENTARY INFORMATION: Under this Program, the Agency will enter into contracts with advanced biofuel producers to pay such producers for the production of eligible advanced biofuels.

As published, the interim rule stated that applications for FY 2010 must be submitted by April 12, 2011. This date is referenced in the preamble SUPPLEMENTARY INFORMATION on page 7936, column 2, lines 4 and 5 and on page 7966, column 2, in the last paragraph of the column. The Agency is extending the application period to May 6, 2011.

Need for Correction

Due to the delay in obtaining approval of the application and payment forms, the Agency needs to extend the application period. The extension will allow the public an adequate period of time to complete and submit applications.

List of Subjects in 7 CFR Part 4288

Administrative practice and procedure, Energy-advanced biofuel, Renewable biomass, Reporting and recordkeeping.

Accordingly, 7 CFR part 4288 is corrected by making the correcting amendment:

PART 4288—PAYMENT PROGRAMS

1. The authority citation for part 4288 continues to read as follows:

Authority: 5 U.S.C. 301; 7 U.S.C. 1989.

2. Section 4288.190(b)(1) is amended by removing “April 12, 2011” and adding in its place “May 6, 2011”.

Dated: April 19, 2011.
Dallas Tonsager,
Under Secretary, Rural Development.

[FR Doc. 2011-10495 Filed 4-29-11; 8:45 am]

BILLING CODE 3410-XY-P